INTERNATIONAL TRADE COMMISSION

[USITC SE-17-016]

Sunshine Act Meeting

AGENCY HOLDING THE MEETING: United States International Trade Commission.

TIME AND DATE: April 27, 2017 at 9:30 a.m.

PLACE: Room 101, 500 E Street SW., Washington, DC 20436, Telephone: (202) 205-2000.

STATUS: Open to the public.

MATTERS TO BE CONSIDERED:

1. Agendas for future meetings: none.

2. Minutes.

3. Ratification List.

4. Vote in Inv. Nos. 731-TA-540 and 541 (Fourth Review) (Welded ASTM A-312 Stainless Steel Pipe from Korea and Taiwan). The Commission is currently scheduled to complete and file its determinations and views of the Commission by May 12, 2017.

5. Outstanding action jackets: none.

In accordance with Commission policy, subject matter listed above, not disposed of at the scheduled meeting, may be carried over to the agenda of the following meeting.

By order of the Commission.
Issued: April 20, 2017.
William R. Bishop,
Supervisory Hearings and Information Officer.

[FR Doc. 2017-08377 Filed 4-20-17; 4:15 pm]

BILLING CODE 7020-02-P